DEPARTMENT OF DEFENSE

Department of the Army

Final Environmental Impact Statement for the Modernization and Repair of Piers 2 and 3, Military Ocean Terminal Concord, CA

AGENCY: Department of the Army, DOD.

ACTION: Notice of availability.

SUMMARY: The Department of the Army (Army) announces the availability of the Final Environmental Impact Statement (EIS) for the Modernization and Repair of Piers 2 and 3 at Military Ocean Terminal Concord, California (MOTCO). The Final EIS evaluates the potential environmental and socioeconomic effects that could result from demolition and reconstruction of structural elements, replacement of infrastructure, upgrades to shore-side roads and electrical infrastructure, repair of piles at Pier 3, and maintenance dredging. Environmental consequences were evaluated for noise; air quality; geology, topography, and soils; water resources; biological resources; land use and coastal zone management; transportation; infrastructure; visual resources; recreational resources; socioeconomics; environmental justice and protection of children; cultural resources; and hazardous materials, hazardous waste, toxic substances, and contaminated sites. Based on the analysis described in the EIS, all impacts are anticipated to be less than significant. The potential for environmental impacts is greatest for the following resource areas: water resources; biological resources; transportation; infrastructure; and cultural resources.

DATES: The Army will make a final decision no sooner than 30 days after the publication of a Notice of Availability for the Final EIS in the Federal Register.

ADDRESSES: Please send requests for a copy of the Final EIS or written comments on the Final EIS to Mr. Malcolm Charles, Director of Public Works, Attention: SDAT-CCA-MI (Charles), 410 Norman Avenue, Concord, CA 94520; email comments to usarmy.motco.sddc.mbx.list-eis@mail.mil; or fax comments to (925) 246-4171 (Attention: SDAT-CCA-MI [Charles]).

FOR FURTHER INFORMATION CONTACT: Ms. Sarah Garner, Public Affairs Office, Surface Deployment and Distribution Command; telephone: (618) 220-6284; email: usarmy.scott.sddc.mbx.command-affairs@mail.mil.

SUPPLEMENTARY INFORMATION: The purpose of the proposed action is to modernize and repair Pier 2 and repair Pier 3 so the Army can maintain its ability to meet Department of Defense (DOD) mission requirements in support of wartime and contingency operations. Piers 2 and 3 were built in the mid-1940s and are past their structural and design life and lack modern operational efficiencies. Based on Net Explosive Weight handling capability, Pier 2 is the optimum pier for mission capability, but it cannot be used due to its degraded and nonoperational condition. Pier 3, currently the primary operational pier at MOTCO, requires some level of repair to maintain even its limited operational capability through 2019.

Alternative 1 fully implements repairs to Piers 2 and 3 with Pier 2 re-oriented to align the west end with the existing shipping channel to create a more modernized configuration. Alternative 2 would be similar to Alternative 1, but the Pier 2 footprint would not change. Alternative 3 would fully implement repairs to Piers 2 and 3, reorienting Pier 2 to create a more modernized configuration but with a larger deck surface and heavier load-carrying capacity than that proposed under Alternative 1. Under the No Action Alternative, the modernization and repair of Pier 2 and the repair of Pier 3 at MOTCO would not occur, and Pier 3 would continue to be used with loading restrictions for the remainder of its service life. The No Action Alternative provides the environmental baseline conditions for comparing the impacts associated with the other alternatives. Alternative 1 is the preferred alternative.

The Army consulted with regulatory agencies, to include the State Historic Preservation Officer, the National Park Service, the U.S. Army Corps of Engineers, the San Francisco Bay Regional Water Quality Control Board, the National Marine Fisheries Service, the U.S. Fish and Wildlife Service, and the San Francisco Bay Conservation and Development Commission.

Several of the comments received during the Draft EIS review period resulted in revisions to the Final EIS. These revisions included minor clarifications and the inclusion of updated information. The Final EIS includes responses to all comments.

Copies of the Final EIS are available for public review at the following two Contra Costa County libraries: (1) Concord Library, 2900 Salvio Street, Concord, CA 94519 and (2) Bay Point Library, 205 Pacifica Avenue, Bay Point, CA 94565. The Final EIS may also be reviewed electronically at http://www.sddc.army.mil/MOTCO/default.aspx.

Brenda S. Bowen,
Army Federal Register Liaison Officer.

[FR Doc. 2015-05083 Filed 3-4-15; 8:45 am]

BILLING CODE 3710-08-P